SECURITIES AND EXCHANGE COMMISSION

[Release No. IC-27442]

Notice of Applications for Deregistration Under Section 8(f) of the Investment Company Act of 1940

July 28, 2006.

The following is a notice of applications for deregistration under section 8(f) of the Investment Company Act of 1940 for the month of July, 2006. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on August 22, 2006, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

The Thurlow Funds, Inc. [File No. 811-8219]

Summary: Applicant seeks an order declaring that it has ceased to be an investment company. On March 17, 2006, applicant made a liquidating distribution to its shareholders, based on net asset value. Expenses of approximately $16,500 incurred in connection with the liquidation were paid by Thurlow Capital Management, Inc., applicant's investment adviser.

Filing Date: The application was filed on June 30, 2006.

Applicant's Address: 3212 Jefferson St. #416, Napa, CA 94558.

Retirement Income Trust [File No. 811-21320]

Summary: Applicant seeks an order declaring that it has ceased to be an investment company. On April 27, 2006, applicant made a liquidating distribution to its shareholders, based on net asset value. Applicant incurred no expenses in connection with the liquidation.

Filing Date: The application was filed on July 19, 2006.

Applicant's Address: 5553 Woodmont St., Pittsburgh, PA 15217.

WM Prime Income Fund [File No. 811-9122]

Summary: Applicant, a closed-end investment company, seeks an order declaring that it has ceased to be an investment company. On August 17, 1998, applicant made a liquidating distribution to its shareholders, based on net asset value. Expenses of approximately $4,000 incurred in connection with the liquidation were paid by WM Advisors, Inc., applicant's investment adviser.

Filing Date: The application was filed on June 6, 2006.

Applicant's Address: John T. West, c/o WM Advisors, Inc., 1201 Third Ave., Suite 2200, Seattle, WA 98101.

Smith Barney Principal Return Fund [File No. 811-5678]

Summary: Applicant seeks an order declaring that it has ceased to be an investment company. On August 31, 2005, applicant made a liquidating distribution to its shareholders, based on net asset value. Expenses of $27,000 incurred in connection with the liquidation will be paid by applicant using $13,372 in cash held by its custodian, State Street Bank and Trust Company, and remaining amounts will be paid by Smith Barney Fund Management LLC, applicant's investment adviser.

Filing Date: The application was filed on June 27, 2006.

Applicant's Address: 125 Broad St., 10th Floor, New York, NY 10004.

Fidelity Qualified Dividend Fund [File No. 811-3071]

Summary: Applicant seeks an order declaring that it has ceased to be an investment company. On September 30, 1991, applicant transferred its assets to Fidelity Utilities Income Fund, a series of Fidelity Devonshire Trust, based on net asset value. Expenses incurred in connection with the reorganization were paid by applicant.

Filing Dates: The application was filed on March 9, 2006, and amended on July 17, 2006.

Applicant's Address: 82 Devonshire St., Boston, MA 02109.

The Nevis Fund, Inc. [File No. 811-8689]

Summary: Applicant seeks an order declaring that it has ceased to be an investment company. On December 30, 2005, applicant transferred its assets to Brown Advisory Opportunity Fund, a series of Forum Funds, based on net asset value. Expenses of $164,891 incurred in connection with the reorganization were paid by Nevis Capital Management LLC and Brown Investment Advisory Incorporated, applicant's investment advisers.

Filing Date: The application was filed on June 13, 2006.

Applicant's Address: 2 Hamill Rd., Suite 272, Baltimore, MD 21210.

Highland Institutional Floating Rate Income Fund [File No. 811-8955]

Summary: Applicant, a closed-end investment company, seeks an order declaring that it has ceased to be an investment company. On May 5, 2006, applicant made a final liquidating distribution to its shareholders, based on net asset value. Applicant paid expenses of approximately $14,800 incurred in connection with the liquidation.

Filing Date: The application was filed on June 15, 2006.

Applicant's Address: c/o Highland Capital Management, L.P., Two Galleria Tower, 13455 Noel Rd., Suite 800, Dallas, TX 75240.

CIM High Yield Securities [File No. 811-5328]

Summary: Applicant, a closed-end investment company, seeks an order declaring that it has ceased to be an investment company. On April 28, 2006, applicant made a final liquidating distribution to its shareholders, based on net asset value. Applicant incurred $75,214 in expenses in connection with the liquidation.

Filing Date: The application was filed on June 16, 2006.

Applicant's Address: c/o Invesco Institutional (N.A.), Inc., 400 W Market St., Suite 3300, Louisville, KY 40202.

Morgan Stanley KLD Social Index Fund [File No. 811-10353]; Morgan Stanley Biotechnology Fund [File No. 811-21040]

Summary: Each applicant seeks an order declaring that it has ceased to be an investment company. On April 7, 2006, each applicant made a liquidating distribution to its shareholders, based on net asset value. Expenses of approximately $10,000 incurred in connection with each liquidation were paid by Morgan Stanley Investment Advisors Inc., investment adviser to each applicant.

Filing Date: The applications were filed on July 18, 2006.

Applicants' Address: Morgan Stanley Investment Advisors Inc., 1221 Avenue of the Americas, New York, NY 10020.

ACM Government Securities Fund, Inc. [File No. 811-5402]; ACM Government Spectrum Fund, Inc. [File No. 811-5500]

Summary: Each applicant, a closed-end investment company, seeks an order declaring that it has ceased to be an investment company. On December 19, 2000, each applicant transferred its assets to ACM Income Fund, Inc. (formerly, ACM Government Income Fund, Inc.), based on net asset value. Each applicant paid $17,500 of the expenses incurred in connection with the reorganizations.

Filing Date: The applications were filed on June 30, 2006.

Applicants' Address: 1345 Avenue of the Americas, New York, NY 10105.

Scudder Yieldwise Funds [File No. 811-8047]

Summary: Applicant seeks an order declaring that it has ceased to be an investment company. On June 10, 2005, applicant transferred its assets to corresponding series of DWS Money Funds (formerly, Scudder Money Funds), based on net asset value. Expenses of $217,524 incurred in connection with the reorganization were paid by Deutsche Investment Management Americas, Inc., applicant's investment adviser.

Filing Date: The application was filed on June 29, 2006.

Applicant's Address: 222 South Riverside Plaza, Chicago, IL 60606.

Scudder Focus Value Plus Growth Fund [File No. 811-7331]

Summary: Applicant seeks an order declaring that it has ceased to be an investment company. On April 26, 2005, applicant transferred its assets to DWS Growth & Income Fund, a series of DWS Investment Trust, based on net asset value. Expenses of $238,121 incurred in connection with the reorganization were paid by Deutsche Investment Management Americas, Inc., applicant's investment adviser.

Filing Date: The application was filed on June 29, 2006.

Applicant's Address: 222 South Riverside Plaza, Chicago, IL 60606.

Scudder Growth Trust [File No. 811-1365]

Summary: Applicant seeks an order declaring that it has ceased to be an investment company. On March 14, 2005, applicant transferred its assets to DWS Capital Growth Fund, a series of DWS Investment Trust, based on net asset value. Expenses of $399,868 incurred in connection with the reorganization were paid by Deutsche Investment Management Americas, Inc., applicant's investment adviser.

Filing Dates: The application was filed on July 6, 2006.

Applicant's Address: 222 South Riverside Plaza, Chicago, IL 60606.

Scudder Dynamic Growth Fund [File No. 811-1702]; Scudder Aggressive Growth Fund [File No. 811-7855]

Summary: Each applicant seeks an order declaring that it has ceased to be an investment company. On December 20, 2004 and September 17, 2005, respectively, each applicant transferred its assets to corresponding series of DWS Advisor Funds (formerly, Scudder Advisor Funds), based on net asset value. Expenses of approximately $417,209 and $195,103, respectively, incurred in connection with the reorganizations were paid by Deutsche Investment Management Americas, Inc., applicants' investment adviser.

Filing Date: The applications were filed on July 6, 2006.

Applicants' Address: 222 South Riverside Plaza, Chicago, IL 60606.

Scudder Investors Trust [File No. 811-9057]

Summary: Applicant seeks an order declaring that it has ceased to be an investment company. On April 15, 2005, applicant made a liquidating distribution to its shareholders, based on net asset value. Expenses of $115,176 incurred in connection with the liquidation were paid by Deutsche Investment Management Americas, Inc., applicant's investment adviser.

Filing Date: The application was filed on June 29, 2006.

Applicant's Address: 222 South Riverside Plaza, Chicago, IL 60606.

Scudder New Europe Fund, Inc. [File No. 811-5969]

Summary: Applicant seeks an order declaring that it has ceased to be an investment company. On March 14, 2005, applicant transferred its assets to DWS Europe Equity Fund, a series of DWS International Fund, Inc. (formerly, Scudder International Fund, Inc.), based on net asset value. Expenses of approximately $283,745 incurred in connection with the reorganization were paid by Deutsche Investment Management Americas, Inc., applicant's investment adviser.

Filing Date: The application was filed on July 6, 2006.

Applicant's Address: 345 Park Ave., New York, NY 10154.

For the Commission, by the Division of Investment Management, pursuant to delegated authority.
J. Lynn Taylor,
Assistant Secretary.

[FR Doc. E6-12634 Filed 8-3-06; 8:45 am]

BILLING CODE 8010-01-P